NUCLEAR REGULATORY COMMISSION

10 CFR Part 34

[Docket No. PRM-34-7; NRC-2016-0182]

Individual Monitoring Devices for Industrial Radiographic Personnel

AGENCY: Nuclear Regulatory Commission.

ACTION: Petition for rulemaking; notice of docketing and request for comment.

SUMMARY: The U.S. Nuclear Regulatory Commission (NRC) has received a petition for rulemaking (PRM), dated July 14, 2016, from Dr. Arny Bereson of the Nondestructive Testing Management Association (NDTMA) and Mr. Walt Cofer of the American Society for Nondestructive Testing (ASNT). The petitioners request that the NRC amend its regulations to authorize use of improved individual monitoring devices for industrial radiographic personnel. The PRM was docketed by the NRC on August 12, 2016, and has been assigned Docket No. PRM-34-7. The NRC is examining the issues raised in PRM-34-7 to determine whether they should be considered in rulemaking.

DATES: Submit comments by January 23, 2017. Comments received after this date will be considered if it is practical to do so, but the NRC is able to assure consideration only for comments received on or before this date.

ADDRESSES: You may submit comments by any of the following methods:

• Federal Rulemaking Web site: Go to http://www.regulations.gov and search for Docket ID NRC-2016-0182. Address questions about NRC dockets to Carol Gallagher; telephone: 301-415-3463; email: Carol.Gallagher@nrc.gov. For technical questions contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Edward Lohr, Office of Nuclear Material Safety and Safeguards, U.S. Nuclear Regulatory Commission, Washington DC 20555-0001; telephone: 301-415-0253, email: Edward.Lohr@nrc.gov.

SUPPLEMENTARY INFORMATION:

I. Obtaining Information and Submitting Comments

A. Obtaining Information

Please refer to Docket ID NRC-2016-0182 when contacting the NRC about the availability of information for this action. You may obtain publicly-available information related to this action by any of the following methods:

• Federal rulemaking Web site: Go to http://www.regulations.gov and search for Docket ID NRC-2016-0182.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2016-0182 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. The Petitioners

The petition was filed jointly by Dr. Arny Bereson and Mr. Walt Cofer on behalf of NDTMA and the ASNT. The petitioners state, among other things, that the NDTMA is a “U.S. non-profit organization dedicated to nondestructive testing (NDT) management, technology and regulation.” In addition, the petitioners state that the ASNT is a “U.S. non-profit technical society for NDT professionals that provides a forum for exchange of NDT technical information, NDT educational materials and programs, and standards and services for the qualification and certification of NDT personnel. The ASNT promotes NDT as a profession and facilitates NDT research and technology applications. As an independent certifying entity, the ASNT operates the only non-state-administered radiographer radiation safety certification program in the U.S.A.”

III. The Petition

The petitioners request that the NRC amend its regulations to authorize use of particular individual monitoring devices for industrial radiographic personnel. Specifically, the petitioners request authorization to use “improved electronic personnel monitoring dosimeters” and “dual-function alarming rate meters and electronic dosimeters.” The PRM is available in ADAMS under Accession No. ML16228A045.

IV. Discussion of the Petition

The petitioners propose that the NRC (1) amend parts 20 and 34 of title 10 of the Code of Federal Regulations (10 CFR); and (2) change the guidance in NUREG-1556, Vol. 2, “Consolidated Guidance About Materials Licenses; Program-Specific Guidance About Industrial Radiography Licenses” (ADAMS Accession No. ML16062A091), to reflect the changes in the proposed amendments.

The petitioners propose NRC amend 10 CFR 34.47(a) to authorize the use of dual-function electronic dosimeters (ED) and alarm ratemeters (ARM) in place of separate devices. The petitioners state that the proposed revisions would conform to the requirements in 10 CFR 30.33, “in that the equipment in question (dual-function ED/ARM, digital dosimeter) is adequate to protect health and minimize the danger to workers and the public.” The petitioners also state that the dual-function ED and ARM digital dosimeters “provide improved efficiencies, lower costs, and enhanced safety features.”

The petitioners are also proposing NRC amend 10 CFR 34.47(a)(3) to replace the reference to “ `other personnel dosimeters' with TLDs and OSLDs,” in order to leave open the option to use digital dosimeters without replacement. The petitioners note that “[t]his option should be mentioned in NUREG-1556, Vol. 2.”

V. Specific Request for Comment

The NRC is seeking comments and supporting rationale from the public on the following three questions:

1. Please comment on how the use of a dual-function device could achieve the current safety purpose of using independent devices, or if that requirement should be changed. Please reference publicly-available technical, scientific, or other data or information to support your position.

2. Please comment on whether changes similar to those proposed in the petition should be applied to other radiation protection regulatory requirements, such as 10 CFR parts 36 and 39. Please explain your position.

3. Please comment on what experiences or challenges users have encountered in the use of these dosimeters. Please reference publicly-available technical, scientific, or other data or information to support your position.

VI. Conclusion

The NRC has determined that the petition meets the threshold sufficiency requirements for docketing a PRM under 10 CFR 2.802, “Petition for rulemaking—requirements for filing,” and the PRM has been docketed as PRM-34-7. The NRC will examine the issues raised in PRM-34-7, to determine whether they should be considered in the rulemaking process. The NRC is requesting public comments on the petition for rulemaking.

Dated at Rockville, Maryland, this 3rd day of November, 2016.
For the Nuclear Regulatory Commission.
Annette L. Vietti-Cook,
Secretary of the Commission.

[FR Doc. 2016-27046 Filed 11-8-16; 8:45 am]

BILLING CODE 7590-01-P